DEPARTMENT OF THE TREASURY

United States Mint

Citizens Coinage Advisory Committee Meeting

ACTION: Notification of CCAC 2004 public meetings.

SUMMARY: Pursuant to Public Law 108-15, Sec. 103, enacted on April 23, 2003, the Citizens Coinage Advisory Committee (CCAC) announces its meetings for the calendar year 2004. These meetings are open to the public. The purpose of the CCAC is to advise the Secretary of the Treasury on designs pertaining to the coinage of the United States and for other purposes.

February 18, 2004—Philadelphia, PA

April 20, 2004—Washington, DC

May 18, 2004—Washington, DC

June 22, 2004—Washington, DC

August 19, 2004—Pittsburgh, PA

September 21, 2004—Washington, DC

October 19, 2004—Washington, DC

November 16, 2004—Washington, DC

Confirmation of the meetings, as well as meeting times and specific locations, will be announced at least two weeks prior to each meeting. Interested persons should call 202-354-7502 for the latest update on meeting time and location.

Public Law 108-15 established the CCAC to:

• Advise the Secretary of the Treasury on any theme or design proposals relating to circulating coinage, bullion coinage, Congressional gold medals, and national and other medals produced by the United States Mint;

• Advise the Secretary of the Treasury with regard to the events, persons, or places to be honored by the issuance of commemorative coins in each of the five calendar years succeeding the year in which a commemorative coin designation is made; and

• Make recommendations with respect to the mintage level for any commemorative coin recommended.

FOR FURTHER INFORMATION CONTACT: Melody Grimm; United States Mint Liaison to the CCAC; 801 Ninth Street, NW; Washington, DC 20220, or call 202-354-7606.

Any member of the public interested in submitting matters for the CCAC's consideration is invited to submit them by fax to 202-756-6424.

Authority: Pub. L. 108-15 (April 23, 2003).

Dated: December 15, 2003.
Henrietta Holsman Fore,
Director, United States Mint.

[FR Doc. 03-31251 Filed 12-18-03; 8:45 am]

BILLING CODE 4810-37-P